DEPARTMENT OF THE INTERIOR

Bureau of Indian Affairs

Native American Business Development Institute (NABDI) Funding Solicitations and Reporting: Comment Request

AGENCIES: Bureau of Indian Affairs, Interior.

ACTION: Notice of Submission to the Office of Management and Budget.

SUMMARY: The Division of Economic Development (DED), Office of Indian Energy and Economic Development (IEED) seeks to spur job growth and sustainable economies on American Indian reservations. The DED created the Native American Business Development Institute (NABDI) to provide tribes and tribal businesses with expert advice regarding economic development matters. In compliance with the Paperwork Reduction Act of 1995, DED is seeking comments on a proposed information collection related to the NABDI's funding of economic development feasibility studies (studies) and long-term strategic, reservation-wide economic development plans (plans). Federally recognized Indian tribes, on their own behalf or on behalf of tribally owned business, may apply for the funding by providing certain information. Applicants receiving funding must provide a final report summarizing the progress of and results of studies and plans. This notice requests comments on the information collection associated with the application and final report.

DATES: Interested persons are invited to submit comments on or before May 26, 2011.

ADDRESSES: You may submit comments on the information collection to the Desk Officer for the Department of the Interior at the Office of Management and Budget, by facsimile to (202) 395-5806 or you may send an e-mail to: OIRA_DOCKET@omb.eop.gov. Please send a copy of your comments to Mr. Victor Christiansen, Division of Economic Development, Office of Indian Energy and Economic Development, U.S. Department of the Interior, Room 14—South Interior Building, 1951 Constitution Avenue, NW., Washington, DC 20245, fax (202) 208-4564; e-mail: Victor.Christiansen@bia.gov.

FOR FURTHER INFORMATION CONTACT: You may request further information from Mr. Victor Christiansen, Division of Economic Development, Office of Indian Energy and Economic Development, U.S. Department of the Interior, Telephone: (202) 219-0739. You may review the ICR online at http://www.reginfo.gov. Follow the instructions to review Department of the Interior collections under review by OMB.

SUPPLEMENTARY INFORMATION:

I. Abstract

The DED established the NABDI to provide technical assistance funding to federally recognized American Indian tribes seeking to retain universities and colleges, private consulting firms, non-academic/non-profit entities, or others to prepare studies of economic development opportunities or plans. These studies and plans will empower American Indian tribes and tribal businesses to make informed decisions regarding their economic futures. Studies may concern the viability of an economic development project or business or the practicality of a technology a tribe may choose to pursue. The DED will specifically exclude from consideration proposals for research and development projects, requests for funding of salaries for tribal government personnel, funding to pay legal fees, and requests for funding for the purchase or lease of structures, machinery, hardware or other capital items. Plans may encompass future periods of five years or more and include one or more economic development factors including but not limited to land and retail use, industrial development, tourism, energy, resource development and transportation.

This is an annual program whose primary objective is to create jobs and foster economic activity within tribal communities. The DED will administer the program within IEED; and studies and plans as described herein will be the sole discretionary projects DED will consider or fund absent a competitive bidding process. When funding is available, DED will solicit proposals for studies and plans. To receive these funds, tribes may use the contracting mechanism established by Public Law 93-638, the Indian Self-Determination Act or may obtain adjustments to their funding from the Office of Self-Governance. See 25 U.S.C. 450 et seq.

Interested applicants must submit a tribal resolution requesting funding, a statement of work describing the project for which the study is requested or the scope of the plan envisioned, the identity of the academic institution or other entity the applicant wishes to retain (if known) and a budget indicating the funding amount requested and how it will be spent. The DED expressly retains the authority to reduce or otherwise modify proposed budgets and funding amounts.

Applications for funding will be juried and evaluated on the basis of a proposed project's potential to generate jobs and economic activity on the reservation.

II. Request for Comments

The DED requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0XXX.

Type of Review: New.

Title: Native American Business Development Institute (NABDI) Funding Solicitations and Reporting.

Brief Description of Collection: Indian tribes that would like to apply for NABDI funding must submit an application that includes certain information. A complete application must contain:

• A duly-enacted, signed resolution of the governing body of the tribe;

• A proposal describing the planned activities and deliverable products; and

• The identity (if known) of the academic institution, private consultant, non-profit/non-academic entity, or other entity the tribe has chosen to perform the study or prepare the plan; and

• A detailed budget estimate, including contracted personnel costs, travel estimates, data collection and analysis costs, and other expenses, though DED reserves authority to reduce or otherwise modify this budget.

The DED requires this information to ensure that it provides funding only to those projects that meet the economic development and job creation goals for which NABDI was established. Applications will be evaluated on the basis of the proposed project's potential to generate jobs and economic activity on the reservation. Upon completion of the funded project, a tribe must then submit a final report summarizing events, accomplishments, problems and/or results in executing the project. The DED estimates that approximately 20 tribes will apply each year, and that DED will accept approximately all 20 into the program annually.

Respondents: Indian tribes with trust or restricted land.

Number of Respondents: 20 applicants per year; 20 project participants each year.

Estimated Time per Response: 40 hours per application; 1.5 hours per report.

Frequency of Response: Once per year for applications and final report.

Total Annual Burden to Respondents: 830 hours (800 for applications and 30 for final reports).

Dated: April 11, 2011.
Alvin Foster,
Acting Chief Information Officer—Indian Affairs.

[FR Doc. 2011-9672 Filed 4-20-11; 8:45 am]

BILLING CODE 4310-4J-P